DEPARTMENT OF COMMERCE

National Oceanic and Atmospheric Administration

[I.D. 070201B]

Marine Mammals; File No. 116-1477

AGENCY: National Marine Fisheries Service (NMFS), National Oceanic and Atmospheric Administration (NOAA), Commerce.

ACTION: Issuance of permit amendment.

SUMMARY: Notice is hereby given that SeaWorld, Inc., 7007 Sea World Drive, Orlando, FL 32821-8097 (Principal Investigator: Dudley Wigdahl, SeaWorld of Texas) has been issued an amendment to scientific research and enhancement Permit No. 116-1477 to take Hawaiian monk seals, Monachus schauinslandi, for scientific research purposes.

ADDRESSES:

The permit amendment and related documents are available for review upon written request or by appointment in the following office(s): see SUPPLEMENTARY INFORMATION.

FOR FURTHER INFORMATION CONTACT: Amy Sloan or Ruth Johnson, 301/713-2289.

SUPPLEMENTARY INFORMATION: On May 21, 2001, notice was published in the Federal Register (66 FR 27941) that a request for an amendment to scientific research and enhancement Permit No. 116-1477, to take Hawaiian monk seals, Monachus schauinslandi, had been submitted by the above-named organization. The requested amendment has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered fish and wildlife (50 CFR parts 217-227).

Issuance of this permit amendment, as required by the ESA, was based on a finding that such permit amendment (1) was applied for in good faith, (2) will not operate to the disadvantage of the endangered species which is the subject of this permit, and (3) is consistent with the purposes and policies set forth in section 2 of the ESA.

The permit amendment and related documents are available for review in the following office(s):

Permits Division, Office of Protected Resources, NMFS, 1315 East-West Highway, Room 13705, Silver Spring, MD 20910; phone (301) 713-2289; fax (301) 713-0376;

Regional Administrator, Southwest Region, NMFS, 501 West Ocean Boulevard, Suite 4200, Long Beach, CA 90802-4213; phone (562) 980-4001; fax (562) 980-4018;

Regional Administrator, Southeast Region, NMFS, 9721 Executive Center Drive N., St. Petersburg, FL 33702-2432; phone (727) 570-5301; fax (727) 570-5320; and

Protected Species Program Manager, Pacific Islands Area Office, 1601 Kapiolani Blvd., Room 1110, Honolulu, HI 96814-4700; phone (808) 973-2935; fax (808) 973-2941.

Dated: July 13, 2001.
Ann D. Terbush,
Chief, Permits and Documentation Division, Office of Protected Resources, National Marine Fisheries Service.

[FR Doc. 01-18102 Filed 7-18-01; 8:45 am]

BILLING CODE 3510-22-S